DEPARTMENT OF THE TREASURY

Internal Revenue Service

Open Meeting of the Taxpayer Advocacy Panel Taxpayer Communications Project Committee; Correction

AGENCY: Internal Revenue Service (IRS), Treasury.

ACTION: Notice of meeting; correction.

SUMMARY: In the Federal Register notice that was originally published on July 8, 2016, (81 FR 44686) the meeting date was August 18, 2016 at 2:00 p.m. Eastern Time. The new meeting date is Thursday, August 25, 2016 at 2:00 p.m.

DATES: The meeting will be held Thursday, August 25, 2016.

FOR FURTHER INFORMATION CONTACT: Antoinette Ross at 1-888-912-1227 or (202) 317-4110.

SUPPLEMENTARY INFORMATION: Notice is hereby given pursuant to Section 10(a)(2) of the Federal Advisory Committee Act, 5 U.S.C. App. (1988) that an open meeting of the Taxpayer Advocacy Panel Taxpayer Communications Project Committee will be held Thursday, August 25, 2016, at 2:00 p.m. Eastern Time via teleconference. The public is invited to make oral comments or submit written statements for consideration. Due to limited conference lines, notification of intent to participate must be made with Antoinette Ross. For more information please contact: Antoinette Ross at 1-888-912-1227 or (202) 317-4110, or write TAP Office, 1111 Constitution Avenue NW., Room 1509-National Office, Washington, DC 20224, or contact us at the Web site: http://www.improveirs.org.

The committee will be discussing various issues related to Taxpayer Communications and public input is welcome.

Dated: July 26, 2016.
Otis Simpson,
Acting Director, Taxpayer Advocacy Panel.

[FR Doc. 2016-18118 Filed 7-29-16; 8:45 am]

BILLING CODE 4830-01-P